Title 3—

The President

Proclamation 7918 of August 25, 2005

Women's Equality Day, 2005

By the President of the United States of America

A Proclamation

On August 26, 1920, the 19th Amendment to the Constitution was adopted, guaranteeing American women the right to vote. The passage of this amendment was the culmination of a long struggle that reached back to the founding of the country and was furthered by the 1848 women's rights convention in Seneca Falls, New York. By celebrating Women's Equality Day, we commemorate the adoption of this amendment and honor the visionary women who fought tirelessly for women's suffrage.

Led by women such as Elizabeth Cady Stanton, Susan B. Anthony, and Lucretia Mott, the suffragists stood up against injustice and persevered until, as Susan B. Anthony wrote, the handful who first took a stand for suffrage grew into an army. The efforts of these pioneers helped secure for American women the right to vote.

Since the adoption of the 19th Amendment, women have continued to make great contributions to our Nation. Women today are leaders in medicine, law, journalism, business, government, and other professions. They are doctors and mothers, teachers and lawyers, homemakers and pilots, artists and entrepreneurs. Women also are serving with great honor in our Armed Forces as we fight a war on terror and defend our freedoms. The hard work of American women is essential to the strength and vitality of our country.

One hundred and fifty-seven years after the Seneca Falls Convention, we continue to work so that all people can enjoy their God-given rights. This Women's Equality Day, as we celebrate the 85th anniversary of the 19th Amendment, we honor the perseverance, leadership, and achievements of the suffragists and all of America's women, and we renew our commitment to equal justice and dignity for all.

NOW, THEREFORE, I, GEORGE W. BUSH, President of the United States of America, by virtue of the authority vested in me by the Constitution and laws of the United States, do hereby proclaim August 26, 2005, as Women's Equality Day. I call upon the people of the United States to observe this day with appropriate programs and activities.

IN WITNESS WHEREOF, I have hereunto set my hand this twenty-fifth day of August, in the year of our Lord two thousand five, and of the Independence of the United States of America the two hundred and thirtieth.

B

[FR Doc. 05-17389

Filed 8-29-05; 9:07 am]

Billing code 3195-01-P